DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 72, No. 123, pp. 35246-35247, dated Wednesday, June 27, 2007) is amended to reflect the abolishment of the 10 Regional Offices and the establishment of the Consortium for Medicare Health Plans Operations, the Consortium for Financial Management and Fee for Service Operations, the Consortium for Medicaid and Children's Health Operations, and the Consortium for Quality Improvement and Survey and Certification Operations.

Part F is described below:

• Section F.10. (Organization) reads as follows:

1. Office of External Affairs (FAC)

2. Center for Beneficiary Choices (FAE)

3. Office of Legislation (FAF)

4. Center for Medicare Management (FAH)

5. Office of Equal Opportunity and Civil Rights (FAJ)

6. Office of Research, Development, and Information (FAK)

7. Office of Clinical Standards and Quality (FAM)

8. Office of the Actuary (FAN)

9. Center for Medicaid and State Operations (FAS)

10. Consortium for Medicare Health Plans Operations (FAU)

11. Consortium for Financial Management and Fee for Service Operations (FAV)

12. Consortium for Medicaid and Children's Health Operations (FAW)

13. Consortium for Quality Improvement and Survey and Certification Operations (FAX)

14. Office of Operations Management (FAY)

15. Office of Information Services (FBB)

16. Office of Financial Management (FBC)

17. Office of Strategic Operations and Regulatory Affairs (FGA)

18. Office of E-Health Standards and Services (FHA)

19. Office of Acquisition and Grants Management (FKA)

20. Office of Policy (FLA)

21. Office of Beneficiary Information Services (FMA)

• Section F. 20. (Functions) reads as follows:

10. Consortium for Medicare Health Plans Operations (FAU)

• Serves as the Field focal point for all interactions with managed health care organizations, Medicare Advantage (MA) plans, Medicare prescription drug plans (PDPs) and Medicare Advantage Prescription Drug (Part D) plans for issues relating to Agency programs, policy and operations.

• Serves as the Field's focal point for all Agency interactions with employers, employees, retirees and others operating on their behalf pertaining to issues related to Agency policies and operations concerning employer-sponsored prescription drug coverage for their retirees.

• Serves as the Field focal point for all interactions with beneficiaries, their families, care givers, health care providers, and others operating on their behalf concerning improving beneficiaries' ability to make informed decisions about their health and about program benefits administered by the Agency. These activities include strategic and implementation planning, execution, assessment and communications.

• Implements national policy for Medicare Parts C and D beneficiary eligibility, enrollment, entitlement, premium billing and collection, coordination of benefits, rights and protections, and dispute resolution process, as well as policy for managed care enrollment and disenrollment to assure the effective administration of the Medicare program.

• Participates in the development of national policies and procedures related to the development, qualification, and compliance of health maintenance organizations, competitive medical plans and other health care delivery systems and purchasing arrangements (such as prospective pay, case management, differential payment, selective contracting, etc.) necessary to assure the effective administration of the Agency's programs, including the development of statutory proposals.

• In conjunction with the Center for Beneficiary Choices (CBC), handles all phases of contracts with managed health care organizations eligible to provide care to Medicare beneficiaries.

• Responds to inquiries regarding Parts C and D coverage and payment policies.

• Implements national policies and procedures to support and assure appropriate State implementation of the rules and processes governing group and individual health insurance markets and the sale of health insurance policies that supplement Medicare coverage.

• In conjunction with CBC, implements regulations, guidelines, and instructions required for the dissemination of appeals policies to Medicare beneficiaries, MA plans, PDPs, CMS Consortia, beneficiary advocacy groups and other interested parties.

• Assures, in coordination with other Consortium Administrators and Central Office Centers and Offices, that the activities of Medicare managed care plans, agents, and State Agencies meet the Agency's requirements on matters concerning beneficiaries and other consumers.

• In partnership with appropriate Central Office components, administers the contracts and grants related to beneficiary and customer service, including the State Health Insurance Assistance Program grants.

• Participates in the formulation of strategies to advance overall beneficiary communications goals and coordinates the Field implementation of all beneficiary-centered information, education, and service initiatives.

• Builds a range of partnerships with other national organizations for effective consumer outreach, awareness, and education efforts in support of Agency programs.

• Serves as the Consortium focal point for emergency preparedness for the Field.

• Provides oversight in the areas of human resource procurement and logistics.

• Ensures the effective management of the Agency's information technology and information systems and resources in the Field.

• Implements the privacy and confidentiality policies pertaining to the collection, use, and release of individually identifiable data.

• Proactively establishes, manages, and fosters partnerships within the Consortium with State and Local governments, providers and provider associations, beneficiaries and their representatives, and the media that are focused on CMS' goals and objectives.

• Serves as the primary point of contact to appropriate members of Congress, Federal, State, and Local officials and Tribal governments on matters concerning the Medicare program.

• Oversees the coordination and integration of CMS' activities with other Federal, State, Local, and private health care agencies and organizations.

• Counsels, advises, and collaborates with top Agency officials on policy matters and major considerations in developing, implementing, and coordinating CMS' programs as they interrelate in addressing national and regional strategies.

• Advises the Office of the Administrator (OA) on special programs as they relate to national initiatives and as they impact major constituents or their key representatives.

• Promotes accountability, communication, coordination and facilitation of cooperative corporate decision-making among CMS' top senior staff on management, operational and programmatic issues cross-cutting organizational components with diverse functions and activities.

11. Consortium for Financial Management & Fee for Service Operations (FAV)

• Serves as the Field focal point for all interactions with the Office of Financial Management and assists in its overall responsibility for the fiscal integrity of all Agency programs.

• Implements all benefit integrity policies and operations in coordination with other Agency components in the Field. Assists in the management of the Medicare program integrity contractors.

• Performs the Field's activities regarding Medicare Secondary Payer.

• Implements all civil money penalty policies in all CMS' programs.

• Oversees and coordinates the Field's preparation of certification statements for the Federal Managers Financial Integrity Act and Government Performance and Results Act.

• Serves as the Field focal point for all Agency interactions between health care providers and fee-for-service (FFS) contractors for issues relating to Part A and Part B FFS policies and operations.

• Coordinates provider and physician-centered Part A and Part B FFS information, education, and service initiatives in the Field.

• Responds to inquiries regarding Part A and Part B coverage and payment policies.

• Provides the Center for Medicare Managementwith comments on FFS current/proposed legislation in order to determine impact on providers.

• Performs activities related to the Medicare Part A and Part B processes (42 CFR part 405, subparts G and H), Part C (42 CFR part 422, subpart M), Part D (42 CFR part 423, subpart M) and the Program for All-Inclusive Care for the Elderly (PACE) for claims-related hearings, appeals, grievances and other dispute resolution processes that are beneficiary-centered.

• Implements national policy for Medicare Parts A and B beneficiary eligibility, enrollment, entitlement; premium billing and collection; coordination of benefits; rights and protections; dispute resolution process to assure the effective administration of the Medicare program.

• Serves as the Consortium focal point for emergency preparedness for the Field.

• Provides oversight in the areas of human resource procurement and logistics.

• Ensures the effective management of the Agency's information technology and information systems and resources in the Field.

• Implements the privacy and confidentiality policies pertaining to the collection, use, and release of individually identifiable data.

• Proactively establishes, manages, and fosters partnerships within the Consortium with State and Local governments, providers and provider associations, beneficiaries and their representatives, and the media that are focused on CMS' goals and objectives.

• Serves as the primary point of contact to appropriate members of Congress, Federal, State, and Local officials and Tribal governments on matters concerning the Medicare program.

• Oversees the coordination and integration of CMS' activities with other Federal, State, Local, and private health care agencies and organizations.

• Counsels, advises, and collaborates with top Agency officials on policy matters and major considerations in developing, implementing, and coordinating CMS' programs as they interrelate in addressing national and regional strategies.

• Advises OA on special problems as they relate to national initiatives and programs and as they impact major constituents or their key representatives.

• Promotes accountability, communication, coordination and facilitation of cooperative corporate decision-making among CMS top senior staff on management, operational and programmatic issues cross-cutting organizational components with diverse functions and activities.

12. Consortium for Medicaid & Children's Health Operations (FAW)

• Serves as the Field focal point for all CMS activities relating to Medicaid and the State Children's Health Insurance Program (SCHIP) with States and Local governments (including the Territories).

• Implements national Medicaid program and fiscal policies and procedures which support and assure effective State program administration and beneficiary protection. In partnership with States, evaluates the success of State Agencies in carrying out their responsibilities and, as necessary, assists States in correcting problems and improving the quality of their operations.

• Implements, interprets, and applies specific laws, regulations, and policies that directly govern the financial operation and management of the Medicaid program and the related interactions with States.

• Reviews, approves and conducts oversight of Medicaid managed care waiver programs. Provides assistance to States and external customers on all Medicaid managed care issues.

• Implements national policies and procedures on Medicaid automated claims/encounter processing and information retrieval systems such as the Medicaid Management Information System and integrated eligibility determination systems.

• Through administration of the home and community-based services program and policy collaboration with other Agency components and the States, promotes the appropriate choice and continuity of quality services available to frail elderly, disabled and chronically ill beneficiaries.

• Coordinates with and provides input into the Medicaid Integrity Program (MIP). Develops strategies to prevent and detect improper payments, including fraud and abuse by providers and others, from Medicaid and SCHIP. Offers support and assistance to the States to combat provider fraud, waste, and abuse. Provides guidance and direction to State Medicaid programs based on the insights gained through MIP's efforts.

• Serves as the Consortium focal point for emergency preparedness for the Field.

• Provides oversight in the areas of human resource procurement and logistics.

• Ensures the effective management of the Agency's information technology and information systems and resources in the Field.

• Implements the privacy and confidentiality policies pertaining to the collection, use, and release of individually identifiable data.

• Proactively establishes, manages, and fosters partnerships within the Consortium with State and Local governments, providers and provider associations, beneficiaries and their representatives, and the media that are focused on CMS' goals and objectives.

• Serves as the primary point of contact to appropriate members of Congress, State Governors, Federal, State, and Local officials and Tribal governments on matters concerning the Medicaid program.

• Oversees the coordination and integration of CMS' activities with other Federal, State, Local, and private health care agencies and organizations.

• Counsels, advises, and collaborates with top Agency officials on policy matters and major considerations in developing, implementing, and coordinating CMS' programs as they interrelate in addressing national and regional strategies.

• Advises OA on special problems as they relate to national initiatives and programs and as they impact major constituents or their key representatives.

• Promotes accountability, communication, coordination and facilitation of cooperative corporate decision-making among CMS' top senior staff on management, operational and programmatic issues cross-cutting organizational components with diverse functions and activities.

13. Consortium for Quality Improvement & Survey & Certification Operations (FAX)

• Serves as the Field focal point for all quality, clinical and medical science issues and policies for the Agency's programs. Provides leadership and coordination for the development and implementation of a cohesive, Agency-wide approach to measuring and promoting quality and leads the Agency's priority-setting process for clinical quality improvement. Coordinates quality-related activities with outside organizations. Monitors quality of Medicare, Medicaid, and the Clinical Laboratory Improvement Amendments (CLIA). Evaluates the success of interventions.

• Identifies and develops best practices and techniques in quality improvement; implementation of these techniques will be overseen by appropriate components. Develops and collaborates on demonstration projects to test and promote quality measurement and improvement.

• Develops tests and evaluates, adopts and supports performance measurement systems (quality indicators) to evaluate care provided to CMS' beneficiaries except for demonstration projects residing in other components.

• Assures that the Agency's quality-related activities (survey and certification, technical assistance, beneficiary information, payment policies and provider/plan incentives) are fully and effectively integrated in the Field. Carries out the Health Care Quality Improvement Program for the Medicare, Medicaid, and CLIA programs.

• Assists in the specification and operational refinement of an integrated CMS quality information system, which includes tools for measuring the coordination of care between health care settings; analyzes data supplied by that system to identify opportunities to improve care and assess success of improvement interventions.

• Enforces the requirements of participation for providers and plans in the Medicare, Medicaid, and CLIA programs. Recommends revisions of the requirements based on statutory change and input from other components.

• Operates the Medicare Quality Improvement Organization and End Stage Renal Disease Network program, providing policies and procedures, contract design, program coordination, and leadership in selected projects.

• Identifies, prioritizes and develops content for clinical and health related aspects of CMS' Consumer Information Strategy; and collaborates with other components to develop comparative provider and plan performance information for consumer choices.

• Assists in the preparation of the scientific, clinical and procedural basis for, and recommends to the Administrator decisions regarding, coverage of new and established technologies and services. Maintains liaison with other Departmental components regarding the safety and effectiveness of technologies and services; prepares the scientific and clinical basis for, and recommends approaches to, quality-related medical review activities of contractors and payment policies.

• Serves as the focal point for all CMS Field activities relating to CLIA and the survey and certification of health facilities with States and Local governments (including the Territories).

• Implements, evaluates and refines standardized provider performance measures used within provider certification programs. Supports States in their use of standardized measures for provider feedback and quality improvement activities. Implements and supports the data collection and analysis systems needed by States to administer the certification program.

• Serves as the Consortium focal point for emergency preparedness for the Field.

• Provides oversight in the areas of human resource procurement and logistics.

• Ensures the effective management of the Agency's information technology and information systems and resources in the Field.

• Implements the privacy and confidentiality policies pertaining to the collection, use, and release of individually identifiable data.

• Proactively establishes, manages, and fosters partnerships within the Consortium with State and Local governments, providers and provider associations, beneficiaries and their representatives, and the media that are focused on CMS' goals and objectives.

• Serves as the primary point of contact to appropriate members of Congress, State Governors, Federal, State, and Local officials and Tribal governments on matters concerning the Medicare and Medicaid programs.

• Oversees the coordination and integration of CMS' activities with other Federal, State, Local, and private health care agencies and organizations.

• Counsels, advises, and collaborates with top Agency officials on policy matters and major considerations in developing, implementing, and coordinating CMS' programs as they interrelate in addressing national and regional strategies.

• Advises OA on special problems as they relate to national initiatives and programs and as they impact major constituents or their key representatives.

• Promotes accountability, communication, coordination and facilitation of cooperative corporate decision-making among CMS top senior staff on management, operational and programmatic issues cross-cutting organizational components with diverse functions and activities.

Dated: November 23, 2007.
Charlene Frizzera,
Chief Operating Officer, Centers for Medicare & Medicaid Services.

[FR Doc. E7-25305 Filed 12-27-07; 8:45 am]

BILLING CODE 4120-01-P